FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than November 29, 2002.

A. Federal Reserve Bank of New York (Betsy Buttrill White, Senior Vice President) 33 Liberty Street, New York, New York 10045-0001:

1. Elran (D.D.) Holdings Ltd., and Elran (D.D.) Investment, Ltd., both of Tel Aviv, Israel; in connection with its indirect ownership of Bank Hapoalim B.M., to become bank holding companies by acquiring indirect control of Signature Bank, New York, New York.

In connection with this application, Applicant also has applied to acquire Signature Securities Group Corporation, New York, New York, and thereby engage in financial and investment advisory services, pursuant to § 225.28(b)(6) of Regulation Y, and in agency transactional services for customer investments, pursuant to § 225.28(b)(7) of Regulation Y.

B. Federal Reserve Bank of Chicago (Phillip Jackson, Applications Officer) 230 South LaSalle Street, Chicago, Illinois 60690-1414:

1. First State Associates, Inc., Hawarden, Iowa, and Old O'Brien Banc Shares, Inc., Sutherland, Iowa; to each acquire an additional 16.67 percent of the voting shares of Hawarden Banking Company, Hawarden, Iowa, and thereby indirectly acquire voting shares of First State Bank, Hawarden, Iowa, and Security State Bank, Sutherland, Iowa.

C. Federal Reserve Bank of St. Louis (Randall C. Sumner, Vice President) 411 Locust Street, St. Louis, Missouri 63166-2034:

1. Harrodsburg First Financial Bancorp, Inc., Harrodsburg, Kentucky; to acquire at least 22.5 percent of the voting shares of Independence Bancorp, New Albany, Indiana, and thereby indirectly acquire Independence Bank, New Albany, Indiana.

Board of Governors of the Federal Reserve System, October 31, 2002.
Robert deV. Frierson,
Deputy Secretary of the Board.

[FR Doc. 02-28119 Filed 11-5-02; 8:45 am]

BILLING CODE 6210-01-S